DEPARTMENT OF ENERGY

Federal Energy Regulatory Commission

[Docket No. EG00-149-000]

Midwest Electric Power, Inc.; Notice of Amendment to Application for Commission Determination of Exempt Wholesale Generator Status

June 1, 2000.

Take notice that on May 26, 2000, Midwest Electric power, Inc. (MEP), 2100 Portland Road, P.O. Box 165, Joppa, IL 62953, filed with the Federal Energy Regulatory Commission on amendment to its application for determination of exempt wholesale generator status pursuant to Part 365 of the Commission's regulations.

Any person desiring to be heard concerning the application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy of accuracy of the application. All such motions and comments should be filed on or before June 21, 2000, and must be served on the applicant. Any person wishing to become a party must file a motion to intervene. Copies of this filing are on file with the Commission and are available for public inspection or on the Internet at http://www.ferc.fed.us/online/rims.htm (please call (202) 208-2222 for assistance).

David P. Boergers,
Secretary.

[FR Doc. 00-14226 Filed 6-6-00; 8:45 am]

BILLING CODE 6717-01-M